DEPARTMENT OF DEFENSE

Department of the Army

Performance Review Board Membership

AGENCY: Department of the Army, DoD.

ACTION: Notice.

SUMMARY: Notice is given of the names of members of a Performance Review Board for the Department of the Army.

DATES: Effective Date: September 30, 2007.

FOR FURTHER INFORMATION CONTACT: Lucrecia Murdock, Civilian Senior Leader Management Office, 140 Army Pentagon, Washington, DC 20310-0140.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Department of the Army Performance Review Boards are:

1. Mr. Richard G. Alpaugh, Deputy, U.S. Army Security Assistance Command, U.S. Army Materiel Command.

2. Mr. Ronald G. Bechtold, Director for Army Architecture Integration Cell, Chief Information Office/G-6, Headquarters, Department of the Army.

3. Ms. Pamela I. Blechinger, Director of Operations, Training and Doctrine Command.

4. Ms. Barbara L. Bonessa, Director of Management and Control, Office of the Secretary of the Army (Financial Management and Comptroller).

5. Dr. Robin B. Buckelew, Director for Missile Guidance, U.S. Army Materiel Command.

6. Mr. Joseph F. Calcara, Director of Real Estate, U.S. Army Corps of Engineers.

7. Mr. Allen E. Chin, Regional Business Director, U.S. Army Corps of Engineers.

8. Mr. Ronald E. Chronister, Executive Director, Integrated Materiel Management Center, U.S. Army Corps of Engineers.

9. Dr. Jeffrey J. Clarke, Director, Center for Military History, Headquarters, Department of the Army.

10. Dr. Craig E. College, Deputy Assistant Chief of Staff for Installation Management, Office of the Chief of Staff of the Army.

11. Ms. Kathryn A. Condon, Executive Deputy to the Commander General, U.S. Army Materiel Command.

12. Mr. Addison D. Davis IV, Deputy Assistant Secretary of the Army (Environment, Safety and Occupational Health).

13. BG Genaro Dellarocco, Program Executive Officer Missiles and Space, Army Acquisition Executive.

14. Mr. Clifton L. Dickey, Special Assistant to the Deputy Chief of Staff, G-3/5/7, Office of the Deputy Chief of Staff, G-3/5/7.

15. Mr. John P. Dugan, Deputy to the Commander, U.S. Tank-Automotive and Armaments Life Cycle Management Command, U.S. Army Materiel Command.

16. Mr. Michael P. Fallon, Programs Director, U.S. Army Corps of Engineers.

17. Ms. Sarah H. Finnincum, Director for Supply Policy, Programs and Processes, Office of the Deputy Chief of Staff, G-4.

18. Mr. Patrick J. Fitzgerald, The Auditor General, Headquarters, Department of the Army.

19. BG Russell L. Frutiger, Chief of Staff, Headquarters, U.S. Army, Europe and 7th Army.

20. Mr. Joseph F. Guzowski, Principal Deputy Chief of Legislative Liaison, Office, Chief of Legislative Liaison.

21. Ms. Barbara J. Heffernan, Assistant Chief of Staff for Installation Management, Office of the Chief of Staff of the Army.

22. Ms. Wilhelmenia C. Hinton-Lee, Regional Business Director, Great Lakes & Ohio River Division.

23. Dr. James R. Houston, Director, Engineer Research & Development Center (ERDC).

24. Mr. James B. Johnson, Jr., Executive Director, Army Test and Evaluation Command.

25. MG Ronald L. Johnson, Deputy Commanding General, U.S. Army Corps of Engineers.

26. Ms. Deborah J. Kelley, Director of Information Resource Integration, Chief Information Office/G-6, Headquarters, Department of the Army.

27. Mr. Thomas E. Kelly III, Deputy Under Secretary of the Army, Office of the Under Secretary of the Army.

28. Mr. Douglas W. Lamont, Deputy Assistant Secretary of the Army (Project Planning and Review), Office of the Assistant Secretary of the Army (Civil Works).

29. Mr. David W. Ludwig, Deputy Program Executive Officer, Command and Control Communications Tactical, Army Acquisition Executive.

30. Mr. Mark D. Manning, Special Assistant to the Assistant Secretary of the Army (Manpower and Reserve Affairs), Office of the Assistant Secretary of the Army (Manpower and Reserve Affairs).

31. Mr. John C. Metzler, Jr., Director of Cemetery Operations, Arlington National Cemetery, Military District of Washington.

32. Mr. William F. Moore, Deputy to the Commanding General, Training and Doctrine Command.

33. Ms. Joyce E. Morrow, Administrative Assistant to the Secretary of the Army.

34. MG James R. Myles, Command General, U.S. Army Aviation and Missile Life Cycle Management Command, U.S. Army Materiel Command.

35. Mr. Levator Norsworthy Jr., Deputy General Counsel (Acquisition), Office of the General Counsel, Headquarters, Department of the Army.

36. Mr. Dean E. Pfoltzer, Deputy Director, Program Analysis & Evaluation, Office of the Deputy Chief of Staff, G-8.

37. Mr. Benjamin J. Piccolo, Principal Deputy Auditor General, Army Audit Agency, Headquarters, Department of the Army.

38. Mr. Lloyd D. Pike, Deputy Chief Counsel, U.S. Army Corps of Engineers.

39. Mr. Dean G. Popps, Principal Deputy Assistant Secretary of the Army (Acquisition, Logistics and Technology)/(Director for Iraq Reconstruction and Program Management), Office of the Assistant Secretary of the Army (Acquisition, Logistics and Technology).

40. Mr. Geoffrey G. Prosch, Principal Deputy Assistant Secretary of the Army (Installations, Logistics & Environment), Office of the Assistant Secretary of the Army (Installations and Environment).

41. Ms. Diane M. Randon, Executive Director, U.S. Army Resources and Program Agency, Office of the Administrative Assistant to the Secretary of the Army.

42. Mr. Allan M. Resnick, Director, Requirements Integration, U.S. Army Training and Doctrine Command.

43. MG Don T. Riley, Director, Civil Works, U.S. Army Corps of Engineers.

44. Ms. Patricia A. Rivers, Chief, Military Programs Integration Division, U.S. Army Corps of Engineers.

45. Mr. Mark Sagan, Chief Counsel, U.S. Communication-Electronics Life Cycle Management Command.

46. Mr. Todd L. Schafer, Executive Director for Resources, U.S. Southern Command.

47. BG Joseph Schroedel, Commander, South Atlantic Division, U.S. Army Corps of Engineers.

48. Mr. Brian M. Simmons, Director, Army Evaluation Center, U.S. Army Developmental Test Command.

49. Mr. William R. Smith, Deputy Program Executive Officer for Soldier, Army Acquisition Executive.

50. Mr. Larry Stubblefield, Deputy Administrative Assistant to the Secretary of the Army/Director, Shared Services, Office of the Administrative Assistant to the Secretary of the Army.

51. Ms. Kathryn Szymanski, Chief Counsel, U.S. Army Materiel Command.

52. Mr. Edwin A. Theriot, Chief, Environmental Division, U.S. Army Corps of Engineers.

53. Mr. Edward C. Thomas, Deputy to the Commander/Director, Logistics and Readiness Center, U.S. Army Materiel Command.

54. Dr. Katherine S. Thompson, Director, Programs and Strategy, Office of the Assistant Secretary of the Army (Financial Management and Comptroller).

55. Mr. Donald C. Tison, Assistant Deputy Chief of Staff, G-8, Office of the Deputy Chief of Staff, G-8.

56. Mr. Robert Turzak, Director of Program Development, Office of the Deputy Chief of Staff, G-4.

57. Mr. Scott Welker, Deputy to the Commander, U.S. Army Sustainment Command.

58. Mr. Steven L. Wetzel, Deputy Director, Strategy and Policy, U.S. Southern Command.

59. MG David F. Wherely, Jr., Director, DC National Guard.

60. Mr. David E. Wright, Director, Infrastructure & Logistics Division, North Atlantic Treaty Organization.

The members of the Performance Review Board for the Defense Intelligence Senior Executive Service are:

1. MG John De Freitas, Commanding General, U.S. Army Intelligence and Security Command.

2. Mr. Terrance M. Ford, Assistant Deputy Chief of Staff, G-2, Office of the Deputy Chief of Staff.

3. Mr. Thomas A. Gandy, Director, Army G-2X, Office of the Deputy Chief of Staff, G-2.

4. Mr. Darell G. Lance, Chief of Staff, U.S. Army Intelligence and Security Command.

5. Mr. Maxie L. McFarland, Deputy Chief of Staff for Intelligence, U.S. Army Training and Doctrine Command.

6. Mr. Dean G. Popps, Principal Deputy Assistant Secretary of the Army (Acquisition, Logistics and Technology)/(Director for Iraq Reconstruction and Program Management), Office of the Assistant Secretary of the Army (Acquisition, Logistics and Technology).

7. Mr. Jerry V. Proctor, Deputy for Futures, U.S. Army Training and Doctrine Command.

8. Mr. Ben W.A. Purcell, Deputy Director of Intelligence, United States Forces Korea.

9. Ms. Mary Lynn Schnurr, Director, Army Intelligence Community Information Management, Office of the Deputy Chief of Staff, G-2.

10. Mr. Mark A. Smith, Deputy Director for Intelligence, United States Southern Command.

11. Mr. Robert J. Winchester, Assistant for Intelligence Liaison, Office, Chief of Legislative Liaison.

12. Ms. Patricia F. Zitz, Director, Resource Integration, Office of the Deputy Chief of Staff, G-2.

The members of the Performance Review Board for the Defense Intelligence Senior Level are:

1. Mr. Collin A. Agee, Technical Advisor, Intelligence, Surveillance & Reconnaissance, Office of the Deputy Chief of Staff, G-2.

2. Mr. Stephen Bradner, Special Advisor to Commanders in Chief, UNC, Combined Forces Command.

3. Mr. Stephen R. Covington, Special Assistant to the Supreme Allied Commander, Europe for Strategic Studies of the Former Soviet Union.

4. MG John DeFreitas, III, Commanding General, U.S. Army Intelligence and Security Command.

5. Mr. Terrance M. Ford, Assistant Deputy Chief of Staff, G-2, Office of the Deputy Chief of Staff.

6. Mr. Thomas F. Greco, Special Assistant to the G-2, Headquarters, U.S. Army Europe and 7th Army.

7. Mr. Ernie H. Gurany, Senior General Military Intelligence Analyst, National Ground Intelligence Center.

8. Mr. Peter Kunkel, Principal Deputy Assistant Secretary of the Army (Financial Management and Comptroller)/(Controls), Office of the Assistant Secretary of the Army (Financial Management and Comptroller).

9. Mr. Larry L. Miller, Senior Cryptologic, Operations Officer, U.S. Army Intelligence and Security Command.

10. Mr. Daniel T. Morris, Special Assistant to the Commander, National Ground Intelligence Center.

11. Mr. Robert Reuss, Technical Advisor, Intelligence Surveillance and Reconnaissance and Operational Environment Integration, U.S. Army Training and Doctrine Command.

The members of the Performance Review Board for the Scientific and Technicals, are:

1. Dr. Arthur D. Ballato, Senior Research Scientist (Electromagnetics), U.S. Army Communications and Electronics Research, Development and Engineering Center, U.S. Army Materiel Command.

2. Dr. Todd S. Bridges, Senior Research Scientist (Environmental), U.S. Army Engineering Research and Development Center.

3. Dr. Walter Bryzik, Chief Scientist, U.S. Army Tank Automotive Research, U.S. Army Materiel Command.

4. Dr. Kwong Kit Choi, Senior Research Scientist for Physical Sciences, U.S. Army Research Laboratory.

5. Dr. Henry O. Everitt, III, Senior Research Scientist (Optical Sciences), U.S. Army Research, Development and Engineering Command.

6. Dr. Richard Fong, Senior Research Scientist (Warheads Technology), U.S. Army Armament Research Development and Engineering Center.

7. Dr. Grant R. Gerhart, Senior Research Scientist (Computer Modeling & Simulation), U.S. Army Tank Automotive Research Command.

8. Dr. Claire C. Gordon, Senior Research Scientist (Biological Anthropology), Research, Development & Engineering Command.

9. Dr. Shashi P. Karna, Senior Research Scientist (NanoFunctional Materials), U.S. Army Research Laboratory.

10. Dr. Tomasz R. Letowski, Senior Research Scientist (Soldier Performance), U.S. Army Research Laboratory.

11. Dr. Jester M. Loomis, Senior Research Scientist (Radio Frequency Sensors), U.S. Army Research Development and Engineering Command.

12. Dr. Joseph N. Mait, Senior Research Scientist (Electromagnetics), U.S. Army Research Laboratory.

13. Dr. James W. McCauley, Senior Research Engineer (Ceramic Materials), U.S. Army Research Laboratory.

14. Dr. Robert W. McMillan, Senior Research Scientist (Research Applications), U.S. Army Space and Missiles Defense Command.

15. Dr. Paul F. Mlakar, Senior Research Scientist (Weapons Effects/Structural Dynamics), U.S. Army Engineering Research and Development Center.

16. Dr. Nasser M. Nasrabadi, Senior Research Scientist (Sensors), U.S. Army Research Laboratory.

17. Dr. John A. Parmentola, Director for Research and Laboratory Management, Office of the Assistant Secretary of the Army (Acquisition, Logistics and Technology).

18. Dr. Arunachalam M. Rajendran, Senior Research Scientist (Applied Mechanics), U.S. Army Research Laboratory.

19. Dr. James A. Ratches, Chief Scientist Night Vision Electro-Optics, U.S. Army Communications and Electronics Research.

20. Dr. Jaques Reifman, Senior Research Scientist (Advanced Medical Technology), U.S. Army Medical Research and Medical Command.

21. Dr. Donald T. Resio, Senior Research Scientists (Coastal Sedimentation), U.S. Army Engineering Research and Development Center.

22. Dr. Paul B. Ruffin, Senior Research Physicist (Micro-Sensors and Systems), U.S. Army Research, Development and Engineering Command.

23. Dr. Jose Luis Sagripanti, Research Scientist (Biochemistry), U.S. Army Edgewood Chemical Biological Center.

24. Dr. Michelle R. Sams, Director, U.S. Army Research Institute and Chief Psychologist, Office of the Deputy Chief of Staff, G-1.

25. Dr. Connie S. Schmalljohn, Senior Research Scientist for Medical Defense Against Infectious Disease Threats, U.S. Army Research Institute of Infectious Diseases.

26. Dr. Edward M. Schmidt, Senior Research Scientist (Ballistics Research), U.S. Army Research Laboratory.

27. Dr. Michael P. Scully, Senior Research Engineer for Rotorcraft (Aerodynamics and Preliminary Design), U.S. Army Research, Development and Engineering Command.

28. Dr. Paul H. Shen, Senior Research Scientist (Nuclear/Electronics Survivability), U.S. Army Research Laboratory.

29. Dr. Richard W. Stewart, Chief Historian to the Chief of Military History, Center for Military History.

30. Dr. Brian R. Strickland, Chief Scientist (Directed Energy Applications), U.S. Army Space and Missile Defense Command.

31. Dr. Mark B. Tischler, Senior Research Scientist (Rotorcraft Flight Dynamics and Control), U.S. Army Research, Development and Engineering Command.

32. Dr. James J. Valdes, Scientific Advisor for Biotechnology, U.S. Army Edgewood Chemical Biological Center.

33. Dr. Charles E. Wade, Senior Research Scientist Combat Casualty Care, U.S. Army Institute of Surgical Research.

34. Dr. Billy J. Walker, Senior Research Scientist (Computational Fluid Dynamics), U.S. Army Research, Development and Engineering Command.

35. Mr. Roy A. Wallace, Director, Plans and Resources, Office of the Deputy Chief of Staff, G-1.

36. Dr. Bruce J. West, Senior Research Scientist (Mathematical Sciences), U.S. Army Research Laboratory, Army Research Office.

37. Dr. Thomas W. Wright, Senior Research Scientist (Terminal Ballistics), U.S. Army Research Laboratory.

Brenda S. Bowen,
Army Federal Register Liaison Officer.

[FR Doc. E7-21004 Filed 10-24-07; 8:45 am]

BILLING CODE 3710-08-P